DEPARTMENT OF COMMERCE

International Trade Administration

[A-428-832, A-560-815, A-841-805]

Postponement of Final Antidumping Duty Determinations; Carbon and Certain Alloy Steel Wire Rod from Germany, Indonesia and Moldova

AGENCY: Import Administration, International Trade Administration, Department of Commerce.

ACTION: Notice of Postponement of Final Antidumping Duty Determinations of Carbon and Certain Alloy Steel Wire Rod from Germany, Indonesia and Moldova.

SUMMARY: The Department of Commerce (the Department) is postponing the final determinations in the antidumping duty investigations of carbon and certain alloy steel wire rod from Germany, Indonesia and Moldova.

EFFECTIVE DATE: May 13, 2002.

FOR FURTHER INFORMATION CONTACT: Robert James at 202-482-0649 (Germany), Michael Ferrier at 202-482-1394 (Indonesia) or Scott Lindsay at 202-482-0780 (Moldova), Import Administration, International Trade Administration, U.S. Department of Commerce, 14th Street and Constitution Avenue, NW, Washington, DC 20230.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act (URAA). In addition, unless otherwise indicated, all citations to the Department's regulations are to the regulations codified at 19 CFR part 351 (April 2001).

Postponement of Final Determinations and Extension of Provisional Measures

On April 10, 2002, the Department published the affirmative preliminary determinations for the investigation of carbon and certain alloy steel wire rod (steel wire rod) from Germany and Moldova, and a negative preliminary determination in the investigation of steel wire rod from Indonesia. See Notice of Preliminary Determination of Sales at Less Than Fair Value: Carbon and Certain Alloy Steel Wire Rod from Germany, 67 FR 17384, Notice of Preliminary Determination of Sales at Not Less Than Fair Value: Carbon and Certain Alloy Steel Wire Rod from Indonesia, 67 FR 17374, and Carbon and Certain Alloy Steel Wire Rod from Moldova: Notice of Preliminary Determination of Sales at Less Than Fair Value 67 FR 17401 (April 10, 2002).

Pursuant to section 735(a)(2) of the Tariff Act and section 351.210(b)(2)(ii) of the Department's regulations, on April 4, 2002, the respondent in the German case, Saarstahl AG (Saarstahl) requested the Department postpone the final determination in accordance with section 735(a)(2)(A) of the Tariff Act. Saarstahl also requested that the Department extend to six months any provisional measures imposed pursuant to section 733(d) of the Tariff Act. Similarly, on April 27, 2002, Moldova Steel Works requested the Department postpone the final determination in the Moldova case, agreeing to an extension of the provisional measures.

On April 11, 2002, pursuant to section 735(a)(2)(B) of the Tariff Act and section 351.210(b)(2)(i) of the Department's regulations, petitioners requested the Department postpone the final determination in the investigation of steel wire rod from Indonesia.¹

¹ The margin in the Indonesian case was de minimis.

Section 735(a)(2) of the Tariff Act provides that a final determination may be postponed until not later than 135 days after the date of the publication of the preliminary determination if, in the event of an affirmative determination, a request for a postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months.

In accordance with 19 CFR 351.210(b)(2)(ii), because (1) our preliminary determinations were affirmative with respect to Germany and Moldova, (2) the respondent requesting a postponement accounts for a significant proportion of exports of the subject merchandise from these countries, and (3) no compelling reasons for denial exist, we are granting Saarstahl's and Moldova Steel Works' requests for the postponement of the final determination in the cases involving Germany and Moldova. Furthermore, in accordance with 19 CFR 351.210(b)(i), because (1) our preliminary determination was negative with respect to Indonesia, (2) the petitioner requested a postponement and (3) no compelling reasons for denial exist, we are granting petitioners' request for a postponement in the Indonesian case.

We are postponing the final determinations in all three cases to no later than August 23, 2002, which is 135 days after the publication of the preliminary determination in the Federal Register. Where applicable, suspension of liquidation will be extended accordingly.

This notice of postponement is published pursuant to 19 CFR 351.210(g).

Dated: May 3, 2002.
Faryar Shirzad,
Assistant Secretary for Import Administration.

[FR Doc. 02-11923 Filed 5-10-02; 8:45 am]

BILLING CODE 3510-DS-S